SMALL BUSINESS ADMINISTRATION

[Declaration of Disaster #3251]

State of California

San Mateo County and the contiguous counties of San Francisco, Santa Clara, and Santa Cruz in the State of California constitute a disaster area as a result of severe winter storms that occurred during the month of February, 2000, and caused debris flows and landslides. Applications for loans for physical damage as a result of this disaster may be filed until the close of business on June 12, 2000 and for economic injury until the close of business on January 16, 2001 at the address listed below or other locally announced locations: U.S. Small Business Administration, Disaster Area 4 Office, P.O. Box 13795, Sacramento, CA 95853-4795.

The interest rates are:

| Percent
For Physical Damage:
Homeowners with credit available elsewhere | 7.625
Homeowners without credit available elsewhere | 3.812
Businesses with credit available elsewhere | 8.000
Businesses and non-profit organizations without credit available elsewhere | 4.000
Others (including non-profit organizations) with credit available elsewhere | 6.750
For Economic Injury:
Businesses and small agricultural cooperatives without credit available elsewhere | 4.000

The numbers assigned to this disaster are 325111 for physical damage and 9H1000 for economic injury.

(Catalog of Federal Domestic Assistance Program Nos. 59002 and 59008)

Dated: April 13, 2000.
Aida Alvarez,
Administrator.

[FR Doc. 00-10019 Filed 4-20-00; 8:45 am]

BILLING CODE 8025-01-U